DEPARTMENT OF ENERGY

[Docket Nos. FE C&E 00-15, C&E 00-16, C&E 00-17, and C&E 00-18; Certification Notice-189]

Office of Fossile Energy; Notice of Filings of Coal Capability of LSP-Nelson Energy, LLC, Union Power Partners, L.P., Ennis-Tractebel Power Company, L.L.C. and Badger Generating Company, LLC; Powerplant and Industrial Fuel Use Act

AGENCY: Office of Fossil Energy, Department of Energy.

ACTION: Notice of Filing.

SUMMARY: LSP-Nelson Energy, LLC, Union Power Partners, L.P., Ennis-Tractebel Power Company, L.L.C. and Badger Generating Company, LLC submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source.

In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in acccordance with section 201(d).

Owner: LSP-Nelson Energy, LLC (C&E 00-15).

Operator: LSP-Nelson Energy, LLC.

Location: Nelson Township, Lee County, IL.

Plant Configuration: Combined-cycle.

Capacity: 1,100 MW.

Fuel: Natural gas.

Purchasing Entities: One or more wholesale power purchasers.

In-Service Date: Spring of 2003.

Owner: Union Power Partners, L.P. (C&E 00-16).

Operator: Union Power Partners, L.P.

Location: Union County, AK.

Plant Configuration: Combined-cycle.

Capacity: 2,600 MW.

Fuel: Natural gas.

Purchasing Entities: Interconnected utilities within the Southeastern Electric Reliability Council.

In-Service Date: June 2002.

Owner: Ennis-Tractebel Power Company, L.L.C. (C&E 00-17).

Operator: Ennis-Tractebel Power Company, L.L.C.

Location: Ellis County, TX.

Plant Configuration: Combined-cycle.

Capacity: 350 MW.

Fuel: Natural gas.

Purchasing Entities: Texas Utilities Electric Company and others.

In-Service Date: December 1, 2001.

Owner: Badger Generating Company, LLC (C&E 00-18).

Operator: Badger Generating Company, LLC.

Location: Kenosh or Racine County, Wisconsin.

Plant Configuration: Combined-cycle.

Capacity: 1050 MW.

Fuel: Natural gas.

Purchasing Entities: Into the competitive wholesale power market at market-based rates.

In-Service Date: 2003.

Issued in Washington, DC., September 25, 2000.
Anthony J. Como,
Deputy Director, Electric Power Regulation, Office of Coal & Power Im/Ex, Office of Coal & Power Systems, Office of Fossil Energy.

[FR Doc. 00-25006 Filed 9-28-00; 8:45 am]

BILLING CODE 6450-01-P